DEPARTMENT OF TRANSPORTATION

Federal Aviation Administration

Notice of Passenger Facility Charge (PFC) Approvals and Disapprovals

AGENCY: Federal Aviation Administration (FAA), DOT.

ACTION: Monthly Notice of PFC Approvals and Disapprovals. In February 2013, there were eight applications approved. Additionally, nine approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Palm Beach County Department of Airports, West Palm Beach, Florida.

Application Number: 13-13-C-00-PBI.

Application Type: Impose and use a PFC.

PFC Level: $4.50.

Total PFC Revenue Approved in This Decision: $27,589,524.

Earliest Charge Effective Date: November 1, 2013.

Estimated Charge Expiration Date: October 1, 2016.

Class of Air Carriers Not Required To Collect PFC'S:

Air taxi/commercial operators filing FAA Form 1800-31 and operating at Palm Beach International Airport (PBI).

Determination: Approved. Based on information contained in the public agency's application, the FAA has determined that the approved class accounts for less than 1 percent of the total annual enplanements at PBI.

Brief Description of Projects Approved for Collection at PBI and USE at PBI at a $4.50 PFC Level:

Air cargo apron expansion and rehabilitation.

Runway 10R/28L rehabilitation.

Taxiways B, D, and E rehabilitation.

Terminal apron and taxilanes rehabilitation.

Brief Description of Projects Approved for Collection at PBI and Use at PBI at a $3.00 PFC Level:

Terminal improvements—restroom expansion and modifications.

Emergency crash phone system upgrades.

PFC implementation and administrative costs.

Brief Description of Projects Approved for Collection at PBI and Use at Palm Beach County Glades Airport at a $3.00 PFC Level:

Apron rehabilitation.

Airfield lighting upgrades and improvements.

Brief Description of Project Approved for Collection at PBI and Use at North Palm Beach General Aviation Airport at a $3.00 PFC Level:

Construct apron, taxiway, and infrastructure.

Brief Description of Project Approved for Collection at PBI and Use at Palm Beach County Park at a $3.00 PFC Level:

Southside pavement rehabilitation and infrastructure improvements—phase I.

Brief Description of Project Partially Approved for Collection at PBI and Use at PBI at a $3.00 PFC Level:

Construct Golfview infrastructure—phase I.

Determination: Partially approved. The access road work element was disapproved. The public agency did not provide sufficient information to me the PFC objective and adequate justification requirements for this work item.

Decision Date: February 4, 2013.

FOR FURTHER INFORMATION CONTACT: Susan Moore, Orlando Airports District Office, (407) 812-6331.

Public Agency: County of Washington, Hagerstown, Maryland.

Application Number: 13-04-C-00-HGR.

Application Type: Impose and use a PFC.

PFC Level: $4.50.

Total PFC Revenue Approved in This Decision: $12,298.

Earliest Charge Effective Date: April 1, 2013.

Estimated Charge Expiration Date: April 1, 2013.

Class of Air Carriers Not Required To Collect PFC's: None.

Brief Description of Project Approved for Collection and Use: Taxiway marking.

Decision Date: February 6, 2013.

FOR FURTHER INFORMATION CONTACT: Jeffrey Breeden, Washington Airports District Office, (703) 661-1363.

Public Agency: Kansas City Aviation Department, Kansas City, Missouri.

Application Number: 13-08-C-00-MCI.

Application Type: Impose and use a PFC.

PFC Level: $3.00.

Total PFC Revenue Approved in This Decision: $19,850,812.

Earliest Charge Effective Date: April 1, 2018.

Estimated Charge Expiration Date: June 1, 2019.

Class of Air Carriers Not Required To Collect PFC's: Air taxi/commercial operators filing FAA Form 1800-31.

Determination: Approved. Based on information contained in the public agency's application, the FAA has determined that the approved class accounts for less than 1 percent of the total annual enplanements at Kansas City International Airport (MCI).

Brief Description of Projects Approved for Collection at MCI and Use at MCI:

Airfield pavement rehabilitation phase II.

New terminal advance planning.

Reconstruct airfield service roads.

Aircraft rescue and firefighting vehicles.

Terminal access roads rehabilitation and improvements.

New snow removal equipment.

Brief Description of Project Approved for Collection at MCI and Use at Charles B. Wheeler Downtown Airport:

Taxiway rehabilitations.

Decision Date: February 7, 2013.

FOR FURTHER INFORMATION CONTACT: Sheila Bridges, Central Region Airports Division, (816) 329-2638.

Public Agency: City of Williston, North Dakota.

Application Number: 13-01-C-00-ISN.

Application Type: Impose and use a PFC.

PFC Level: $4.50.

Total PFC Revenue Approved in This Decision: $2,825,713.

Earliest Charge Effective Date: April 1, 2013.

Estimated Charge Expiration Date: February 1, 2026.

Class of Air Carriers Not Required To Collect PFC's: None.

Brief Description of Projects Approved for Collection and Use:

Acquire aircraft rescue and firefighting vehicle.

Construct terminal apron.

Conduct environmental study (incompatible land in runway protection zone).

Acquire snow removal equipment (front end loader with attachments).

Construct snow removal equipment building.

Rehabilitate terminal apron.

Expand terminal area auto parking.

Construct passenger terminal.

Rehabilitate runway 2/20.

Rehabilitate taxiway B.

Construct taxiway D.

Conduct environmental study (obstruction removal).

Rehabilitate runway 11/29.

Acquire an aircraft rescue and firefighting vehicle.

Acquire snow removal equipment (2 snow plows).

Acquire snow removal equipment (sweeper).

Preparation of PFC application 1.

Decision Date: February 15, 2013.

FOR FURTHER INFORMATION CONTACT: Mark Holzer, Bismarck Airports District Office, (701) 323-7390.

Public Agency: Lancaster Airport Authority, Lancaster, Pennsylvania.

Application Number: 13-03-C-00-Lns.

Application Type: Impose and Use a PFC.

PFC Level: $3.00.

Total PFC Revenue Approved in This Decision: $35,917.

Earliest Charge Effective Date: July 1, 2013.

Estimated Charge Expiration Date: May 1, 2015.

Class of Air Carriers Not Required To Collect PFC's: None.

Brief Description of Projects Approved for Collection and Use:

Expand southeast general aviation apron, rehabilitate.

Install perimeter fence.

Decision Date: February 15, 2013.

FOR FURTHER INFORMATION CONTACT: Lori Ledebohm, Harrisburg Airports District Office, (717) 730-2835.

Public Agency: City of Albany, Georgia.

Application Number: 13-06-C-00-Aby.

Application Type: Impose and Use a PFC.

PFC Level: $4.50.

Total PFC Revenue Approved in This Decision: $334,032.

Earliest Charge Effective Date: April 1, 2013.

Estimated Charge Expiration Date: February 1, 2015.

Class of Air Carriers Not Required To Collect PFC's:

Air taxi/commercial operators filing FAA Form 1800-31 and operating at Southwest Georgia Regional Airport (ABY).

Determination: Approved. Based on information contained in the public agency's application, the FAA has determined that the approved class accounts for less than 1 percent of the total annual enplanements at ABY.

Brief Description of Projects Approved for Collection and Use:

Acquire aircraft rescue and firefighting vehicle.

Aircraft rescue and firefighting self-contained breathing apparatus.

Aircraft rescue and firefighting proximity suits.

800 MHz safety radios.

Widen and strengthen taxiway A phase I.

Widen and strengthen taxiway A phase II.

Master plan update.

Decision Date: February 21, 2013.

FOR FURTHER INFORMATION CONTACT: Robert Rau, Atlanta Airports District Office, (404) 305-7004.

Public Agency: Port of Portland, Portland, Oregon.

Application Number: 13-12-C-00-PDX.

Application Type: Impose and use a PFC.

PFC Level: $4.50.

Total PFC Revenue Approved in This Decision: $49,615,300.

Earliest Charge Effective Date: September 1, 2033.

Estimated Charge Expiration Date: November 1, 2034.

Classes of Air Carriers Not Required To Collect PFC'S:

(1) Nonscheduled/on-demand air carriers that enplane less than 2,500 passengers per year; and (2) commuters or small certificated air carriers that enplane less than 2,500 passengers per year.

Determination: Approved. Based on information contained in the public agency's application, the FAA has determined that each approved class accounts for less than 1 percent of the total annual enplanements at Portland International Airport.

Brief Description of Projects Approved for Collection and Use at a $4.50 PFC Level:

Taxiway C east reconstruction.

Taxiway C west reconstruction.

Brief Description of Projects Approved for Collection and Use at a $3.00 PFC Level:

Taxiway E south rehabilitation.

Taxiway F south rehabilitation.

Common-use gate improvements—phase II.

Decision Date: February 21, 2013.

FOR FURTHER INFORMATION CONTACT: Trang Tran, Seattle Airports District office, (425) 227-2660.

Public Agency: County of Natrona Board of Trustees, Casper, Wyoming.

Application Number: 13-08-C-00-Cpr.

Application Type: Impose and Use a PFC.

PFC Level: $3.00.

Total PFC Revenue Approved in This Decision: $1,308,333.

Earliest Charge Effective Date: January 1, 2014.

Estimated Charge Expiration Date: May 1, 2019.

Class of Air Carriers Not Required To Collect PFC's: None.

Brief Description of Projects Approved for Collection and Use:

Acquire snow plow and spreader.

Acquire snow blower.

Rehabilitate taxiway A.

Rehabilitate taxiway C.

Decision Date: February 21, 2013.

FOR FURTHER INFORMATION CONTACT: Jesse Lyman, Denver Airports District office, (303) 342-1262.

Amendments to PFC Approvals
Amendment No., City, State | Amendment approved date | Original approved net PFC revenue | Amended approved net PFC revenue | Original estimated charge exp. date | Amended estimated charge exp. date
08-09-C-02-STL, Saint Louis, MO | 2/07/13 | $755,733,688 | $758,497,059 | 02/01/22 | 10/01/26
07-05-C-02-JAN, Jackson, MS | 2/12/13 | 25,473,400 | 23,306,174 | 07/01/16 | 09/01/15
09-06-C-01-SJU, San Juan, PR | 2/14/13 | 19,713,152 | 0 | 01/01/32 | 06/01/30
04-06-C-01-HDN, Hayden, CO | 2/20/13 | 1,051,507 | 956,050 | 07/01/08 | 11/01/07
08-02-C-02-ELM, Elmira, NY | 2/22/13 | 633,413 | 675,160 | 03/01/10 | 03/01/10
09-03-C-02-ELM, Elmira, NY | 2/22/13 | 2,580,175 | 2,606,608 | 10/01/15 | 08/01/15
09-03-C-03-ELM, Elmira, NY | 2/22/13 | 2,606,608 | 2,606,608 | 08/01/15 | 08/01/15
11-04-C-01-ELM, Elmira, NY | 2/22/13 | 2,635,941 | 2,550,995 | 12/01/20 | 06/01/19
11-04-C-02-ELM, Elmira, NY | 2/22/13 | 2,550,995 | 2,550,995 | 06/01/19 | 06/01/19

Issued in Washington, DC on September 4, 2013.
Joe Hebert,
Manager, Financial Analysis and Passenger Facility Charge Branch.

[FR Doc. 2013-22565 Filed 9-16-13; 8:45 am]

BILLING CODE 4910-13-P